DEPARTMENT OF AGRICULTURE

Submission for OMB Review; Comment Request

January 13, 2005.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB),Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Food and Nutrition Service

Title: Food Stamp Nutrition Education Systems Review.

OMB Control Number: 0584-NEW.

Summary of Collections: The Food Stamp Act of 1977 (Pub. L. 88-525, as amended; 7 U.S.C. 2011) authorized the Food Stamp Act. Under implementing Food Stamp Program (FSP) Regulations (7 CFR 272.2) state FSP agencies have the option to include nutrition education for program participants as part of their administrative operations. The states must submit an annual nutrition education plan to the Food and Nutrition Service (FNS) for approval; FNS then reimburses states 50 percent of the allowable expenses for nutrition education.

Need and Use of the Information: The Food and Nutrition Service will conduct a descriptive study to develop a more in-depth understanding of the Food Stamp Nutrition Education (FSNE) infrastructure, policy choices, operations, and decision-making. The last descriptive study of FSNE operations was conducted in fiscal year 1997. Since that time, several factors have converged making it critical for FNS to obtain more current information. First the scale of FSNE has grown rapidly. Second there is growing Agency and public interest in improving the diets and reducing the prevalence of overweight and obesity. Finally, FNS has limited information on the states use of new approaches to nutrition education.

Description of Respondents: State, Local, or Tribal Government; business or other for-profit; not-for-profit institutions.

Number of Respondents: 1,110.

Frequency of Responses: Reporting; other (one time).

Total Burden Hours: 1,730.

Ruth Brown,
Departmental Information Collection Clearance Officer.

[FR Doc. 05-1081 Filed 1-19-05; 8:45 am]

BILLING CODE 3410-30-M